POSTAL SERVICE

39 CFR Parts 111 and 958

Post Office Box and Caller Service

AGENCY: Postal Service.

ACTION: Final rule.

SUMMARY: This final rule transfers responsibility for final agency decisions in connection with Post Office™ box termination, caller service termination, and denial of service appeals from the Judicial Officer Department to the vice president and Consumer Advocate.

DATES: Effective Date: September 1, 2006.

FOR FURTHER INFORMATION CONTACT: Mr. Anthony F. Alverno, Chief Counsel, Customer Programs, 202-268-2997.

SUPPLEMENTARY INFORMATION: At present, if a postmaster denies a customer's application for Post Office box or caller service or terminates a customer's Post Office box or caller service, the postmaster must issue a written letter explaining his or her decision and include a copy of the relevant regulations relating to the customer's appeal rights. If the customer appeals, his or her appeal letter is forwarded to the Judicial Officer Department. In the event of an appeal, a Postal Service™ attorney must consult with the postmaster or Post Office box clerk and prepare an answer to the customer's petition. In most cases, the Postal Service counsel files a summary judgment motion with the answer. The summary judgment motion often includes a declaration from the postmaster. After the answer summary judgment motion is filed, the customer is given a chance to reply. Thereafter, the administrative law judge (ALJ) renders a decision on the motion. If the ALJ decides that summary judgment is not warranted, a hearing is scheduled. After the hearing, the ALJ decides the matter on the merits. If the ALJ grants summary judgment, the customer is given the opportunity to appeal to the judicial officer. In the event of an appeal to that level, the law department prepares a written response to the appeal. Alternatively, if the ALJ decides in favor of the customer, the law department may file an appeal.

Considerable resources can be spent on a single case. Many of these costs can be avoided if the appeals process is changed. Also, the appeal process should move more swiftly if handled by postal management.

The Postal Service is transferring responsibility for adjudication of appeals from the Judicial Officer Department to a Postal Service management level official. There is no statutory requirement that Post Office box or caller service termination decisions or application denials be subject to a formal administrative hearing before an ALJ. Moreover, past decisions by the Judicial Officer Department have held there is no right to a Post Office box.

The legal basis for changing procedures is grounded in the Postal Reorganization Act, which provides that the Postal Service is authorized to adopt, amend, and repeal such rules and regulations as it deems necessary. Further, the responsibilities of the judicial officer do not require review of any particular controversy. Rather, the act provides that [t]he judicial officer shall perform such quasi-judicial duties * * * as the Postmaster General may designate” (39 U.S.C. 204).

In lieu of granting a right of appeal to the Judicial Officer Department, the vice president and Consumer Advocate will be given decision-making power to review and decide Post Office box and caller service appeals. This will be more efficient, give the consumer expeditious resolution, and save the Postal Service considerable professional and labor time and travel expense. The Consumer Advocate is a neutral and impartial arbiter of consumer claims and is already the final arbiter for appeals of domestic and international indemnity claims for loss or damage (Mailing Standards of the United States Postal Service, Domestic Mail Manual (DMM®) 609.6 and International Mail Manual 931.3) and for appeals of local handling of complaints and inquiries about postal products, services or employees (DMM 608.6.1).

Any pending actions filed with the recorder's office before the effective date will be handled under the regulations in effect on the date the appeal was received.

List of Subjects in 39 CFR Parts 111 and 958

Administrative practice and procedure.

For the reasons set out in this document, the Postal Service removes 39 CFR part 958 and adopts the following amendments to the DMM, which is incorporated by reference in the CFR. See 39 CFR 111.1.

Accordingly, 39 CFR part 111 is amended as follows:

PART 111—[AMENDED]

1. The authority citation for 39 CFR part 111 continues to read as follows:

Authority: 5 U.S.C. 552(a); 39 U.S.C. 101, 401, 403, 404, 414, 416, 3001-3011, 3201-3219, 3403-3406, 3621, 5001.

PART 958—[REMOVED AND RESERVED]

2. Remove and reserve Part 958.

3. Revise the following sections of Mailing Standards of the United States Postal Service, Domestic Mail Manual (DMM), as follows:

Mailing Standards of the United States Postal Service, Domestic Mail Manual

* * * * *

500 Additional Mailing Services

* * * * *

508 Recipient Services

* * * * *

4.0 Post Office Box Service

* * * * *

4.9 Service Refusal or Termination

* * * * *

4.9.3 Customer Appeal

The applicant or box customer may file a petition appealing the postmaster's determination to refuse or terminate service within 20 calendar days after notice as specified in the postmaster's determination. The filing of a petition prevents the postmaster's determination from taking effect and transfers the case to the USPS Consumer Advocate. The Consumer Advocate's decision constitutes the final agency decision.

* * * * *

5.0 Caller Service

* * * * *

5.7 Service Refusal or Termination

* * * * *

5.7.3 Customer Appeal

The applicant or caller may file a petition opposing the postmaster's determination to refuse or terminate service within 20 calendar days after notice, as specified in the postmaster's determination. The filing of a petition prevents the postmaster's determination from taking effect and transfers the case to the USPS Consumer Advocate. The Consumer Advocate's decision constitutes the final agency decision.

* * * * *

Stanley F. Mires,
Chief Counsel, Legislative.

[FR Doc. E6-15111 Filed 9-13-06; 8:45 am]

BILLING CODE 7710-12-P